DEPARTMENT OF TRANSPORTATION

Federal Highway Administration

Environmental Impact Statement: Mercer and Middlesex Counties, New Jersey

AGENCY: Federal Highway Administration (FHWA), USDOT.

ACTION: Notice of intent.

SUMMARY: The FHWA is issuing this notice to advise the public that an Environmental Impact Statement (EIS) will be prepared for changes being considered to Route 1 and intersecting roadways in the greater Penn's Neck Area to improve transportation service.

FOR FURTHER INFORMATION CONTACT: Robin Schroeder, Program Operations Director or Amy Fox, Environmental Coordinator, Federal Highway Administration, 840 Bear Tavern Road, Suite 310, West Trenton, NJ 08628.

SUPPLEMENTARY INFORMATION: Pursuant to Title 23, Code of Federal Regulations, Part 771, Environmental Impact and Related Procedures, the FHWA, in cooperation with the New Jersey Department of Transportation (NJDOT), will prepare an environmental impact statement in accordance with the National Environmental Policy Act (NEPA), on alternatives for modifications to Route 1 and intersecting roadways in the Penn's Neck Area, to improve transportation service. Generally, the section of Route 1 under evaluation extends from Alexander Road Interchange in West Windsor Township in Mercer County to Scudders Mill Road Interchange in Middlesex County. The EIS will evaluate the No-Action and Build Alternatives to determine potential impacts and costs associated with each.

An Environmental Assessment (EA)/Section 4(F) Evaluation of some alternative solutions for mobility and congestion problems in the Penn's Neck area of Route 1 was developed by FHWA and NJDOT and made available to the public and review agencies during October 2000. Subsequently, a decision was made by Governor Christine Todd Whitman to prepare an EIS to allow broader public participation in the process and a fuller evaluation of alternatives and impacts. After publication of this Notice, the FHWA in cooperation with NJDOT will continue the scoping process begun during the preparation of the EA to evaluate alternatives already under review and to identify additional possible alternatives. This process will also identify significant issues to be addressed in the EIS.

To ensure that issues involving this proposed action are addressed fully and significant concerns are identified, written comments, suggestions or questions should be directed to the FHWA at the address provided above or directed to: Mr. Andras Fekete, Manager, Bureau of Environmental Services, New Jersey Department of Transportation, 1035 Parkway Avenue, Trenton, NJ 08625-0600, Telephone: 609-530-2824.

The public will receive notices on location and time of future opportunities for participation at meetings and public hearings through newspaper advertisements and other means. If you wish to be placed on the mailing list to receive further information as the project develops, contact Mr. Andras Fekete at the address above.

(Catalog of Federal Domestic Assistance Program Number 20.205, Highway Research, Planning and Construction. The regulations implementing Executive Order 12372 regarding intergovernmental consultation of Federal programs and activities apply to this program)
Issued on: December 28, 2000.
Robin Schroeder,
Program Operations Director, FHWA—New Jersey Division, Trenton.

[FR Doc. 01-406 Filed 1-5-01; 8:45 am]

BILLING CODE 4910-22-M